DEPARTMENT OF THE INTERIOR

Fish and Wildlife Service

Draft Environmental Assessment and Receipt of an Application for an Incidental Take Permit for the Mayhoffer/Singletree Trail, Boulder County, CO

AGENCY: Fish and Wildlife Service, Interior.

ACTION: Notice of availability and receipt of application.

SUMMARY: Boulder County Parks and Open Space Department (Applicant) has applied to the Fish and Wildlife Service (Service) for an Incidental Take Permit pursuant to section 10(a)(1)(B) of the Endangered Species Act of 1973, as amended (Act). The permit would authorize the incidental take of Preble's meadow jumping mouse (Zapus hudsonius preblei) (“Preble's”), Federally listed as threatened, and loss and modification of its habitat associated with the construction and use of a multiple use trail on the Mayhoffer/Singletree Property, located near the Town of Superior, in unincorporated Boulder County. The permit would be in effect for 10 years from the date of issuance, to allow for construction of the proposed project and all associated mitigation activities.

We announce the receipt of the Applicant's Incidental Take Permit application that includes a combined proposed Habitat Conservation Plan (HCP) and Environmental Assessment (EA) for the Preble's on the Mayhoffer/Singletree property. The proposed HCP/EA is available for public comment. It fully describes the proposed project and the measures the Applicant would undertake to minimize and mitigate project impacts to the Preble's.

The Service requests comments on the HCP/EA for the proposed issuance of an Incidental Take Permit. We provide this notice pursuant to section 10(a) of the Act and National Environmental Policy Act regulations (40 CFR 1506.6). All comments on the HCP and permit application will become part of the administrative record and will be available to the public.

DATES: Written comments on the permit application, HCP, and EA should be received on or before June 3, 2003.

ADDRESSES: Comments regarding the permit application and HCP/EA should be addressed to LeRoy Carlson, Field Supervisor, U.S. Fish and Wildlife Service, Colorado Field Office, 755 Parfet Street, Suite 361, Lakewood, Colorado 80215.

FOR FURTHER INFORMATION CONTACT: Ms. Kathleen Linder, Fish and Wildlife Biologist, Colorado Field Office, telephone (303) 275-2370.

SUPPLEMENTARY INFORMATION:

Document Availability

Individuals wishing copies of the HCP/EA and associated documents for review should immediately contact the above office. Documents also will be available for public inspection, by appointment, during normal business hours at the Lakewood, Colorado, Field Office (see ADDRESSES above).

Background

Section 9 of the Act and Federal regulation prohibit the “take” of a species listed as endangered or threatened. Take is defined under the Act, in part, as to kill, harm, or harass a Federally listed species. However, the Service may issue permits to authorize “incidental take” of listed species under limited circumstances. Incidental Take is defined under the Act as take of a listed species that is incidental to, and not the purpose of, the carrying out of an otherwise lawful activity under limited circumstances. Regulations governing permits for threatened species are promulgated in 50 CFR 17.32.

The Applicant plans to develop a multiple-use trail on the Mayhoffer/Singletree property in the vicinity of Coal Creek near Superior, Boulder County, Colorado, within portions of the property that may constitute habitat for the Preble's. Of the 32 hectares (80 acres) of potential Preble's habitat on the Mayhoffer/Singletree property, the project would impact a total of 0.27 hectare (0.67 acre) of potential Preble's habitat permanently and 0.34 hectare (0.85 acre) temporarily during construction. This reach of the Coal Creek corridor is considered to be viable Preble's habitat by the Service. Preble's have been found near this creek in 1999, approximately 0.8 kilometer (0.5 mile) upstream from the proposed project area, along the Hake Ditch running north of the creek. As discussed below, the Applicant proposes a number of measures to mitigate possible impacts of the proposed action.

Alternatives considered were—no action; alternative trail alignment, which would have taken the trail through a large prairie dog colony and an important raptor conservation area; and the preferred alternative, with the alignment and mitigation per the proposed HCP. None of these alternatives, except no action, eliminated potential take of Preble's.

To mitigate impacts that may result from incidental take, the HCP provides for the following mitigation: All temporarily impacted areas resulting from trail construction will be mitigated onsite at a minimum of 1.5:1 ratio by replanting these areas into similar native vegetation to what existed prior to trail construction. Primarily, these areas are currently in weedy vegetation and will, instead, be planted back into native grasses. Shrub habitat will be replaced with identical native shrub species. Additional mitigation activities for temporary take will include weed control at a ratio of 8:1 onsite. Mitigation activities for permanent take will be in the form of weed control at a ratio of 15:1 and also will occur onsite.

The County is committed to providing the necessary staff time and resources to support the implementation of the HCP/EA and currently has adequate staff to do so.

This notice is provided pursuant to section 10(c) of the Act. We will evaluate the permit application, the HCP, and comments submitted therein to determine whether the application meets the requirements of section 10(a) of the Act. If it is determined that those requirements are met, a permit will be issued for the incidental take of the Preble's in conjunction with the construction and use of the proposed trail. The final permit decision will be made no sooner than 60 days from the date of this notice.

Dated: March 11, 2003.
John A. Blankenship,
Deputy Regional Director, Denver, Colorado.

[FR Doc. 03-8197 Filed 4-3-03; 8:45 am]

BILLING CODE 4310-55-P